DEPARTMENT OF LABOR

Employment and Training Administration

[TA-W-85,019]

Salience Insight, Inc.; F/K/A KD Paine & Partners, Inc.; a Subsidiary of News Group International Berlin, New Hampshire; Notice of Affirmative Determination Regarding Application for Reconsideration

By application dated March 25, 2014, a state workforce official requested administrative reconsideration of the negative determination regarding workers' eligibility to apply for Trade Adjustment Assistance (TAA) applicable to workers and former workers of the subject firm. The determination was issued on February 24, 2014. The subject firm is engaged in activity related to the supply of media measurement and analysis services.

The initial investigation resulted in a negative determination based on the findings that the workers at the subject firm do not produce an article as defined by the Trade Act of 1974, as amended.

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The request for reconsideration alleges that the negative determination is erroneous because it is based on a mistake in facts not previously considered. Specifically, the request states that “the firm produces computer software including but not limited to a produce known as dlyDashboard which an article under the Trade Act” and referenced U.S. Court of International Trade slip opinion 05-49 in support of the allegation.

The Department has carefully reviewed the request for reconsideration and the existing record, and will conduct further investigation to determine if the workers meet the eligibility requirements of the Trade Act of 1974, as amended.

Conclusion

After careful review of the application, I conclude that the claim is of sufficient weight to justify reconsideration of the U.S. Department of Labor's prior decision. The application is, therefore, granted.

Signed at Washington, DC, this 11th day of April, 2014.
Del Min Amy Chen,
Certifying Officer, Office of Trade Adjustment Assistance.

[FR Doc. 2014-10255 Filed 5-6-14; 8:45 am]

BILLING CODE 4510-FN-P